ENVIRONMENTAL PROTECTION AGENCY

40 CFR Part 300

[FRL-7034-8]

National Oil and Hazardous Substances Pollution Contingency Plan; National Priorities List

AGENCY: Environmental Protection Agency.

ACTION: Notice of intent to delete the V&M/Albaladejo Superfund Site from the National Priorities List.

SUMMARY: The Environmental Protection Agency (EPA) Region II is issuing a notice of intent to delete the V&M/Albaladejo Superfund Site (Site), located in the Almirante Norte Ward of the municipality of Vega Baja, Puerto Rico, from the National Priorities List (NPL) and requests public comment on this action. The NPL is Appendix B of the National Oil and Hazardous Substances Pollution Contingency Plan (NCP), 40 CFR part 300, which EPA promulgated pursuant to Section 105 of the Comprehensive Environmental Response, Compensation, and Liability Act (CERCLA) of 1980, as amended. The EPA and the Commonwealth of Puerto Rico, through the Puerto Rico Environmental Quality Board, have determined that all appropriate response actions under CERCLA have been completed and that the Site poses no significant threat to public health or the environment. In the “Rules and Regulations” Section of today's Federal Register, we are publishing a direct final notice of deletion of the V&M/Albaladejo Superfund Site without prior notice of this action because we view this as a noncontroversial revision and anticipate no significant adverse comment. We have explained our reasons for this deletion in the preamble to the direct final deletion. If we receive no significant adverse comment(s) on this action, we will not take further action on this notice of intent to delete. If we receive significant adverse comment(s), we will withdraw the direct final notice of deletion and it will not take effect. We will, as appropriate, address all public comments. If, after evaluating public comments, EPA decides to proceed with deletion, we will do so in a subsequent final deletion notice based on this notice of intent to delete. We will not institute a second comment period on this notice of intent to delete. Any parties interested in commenting must do so at this time. For additional information, see the direct final notice of deletion which is located in the Rules section of this Federal Register.

DATES: Comments concerning this Site must be received by September 20, 2001.

ADDRESSES: Written comments should be addressed to: Caroline Kwan, Remedial Project Manager, Emergency and Remedial Response Division, U.S. Environmental Protection Agency, Region II, 290 Broadway, 20th Floor, New York, New York 10007-1866.

FOR FURTHER INFORMATION CONTACT: Ms. Caroline Kwan at the address provided above, or by telephone at (212) 637-4275, by Fax at (212) 637-4284 or via e-mail at Kwan.Caroline@EPA.GOV.

SUPPLEMENTARY INFORMATION: For additional information, see the Direct Final Notice of Deletion which is located in the Rules section of this Federal Register.

Authority: 33 U.S.C. 1321(c)(2); 42 U.S.C. 9601-9675; E.O. 12777, 56 FR 54757, 3 CFR, 1991 Comp.; p. 351; E.O. 12580, 52 FR 2923, 3 CFR, 1987 Comp.; p. 193.

Dated: August 2, 2001.
William J. Muszynski,
Acting EPA Regional Administrator, U.S. EPA, Region II.

[FR Doc. 01-20891 Filed 8-20-01; 8:45 am]

BILLING CODE 6560-50-P